DEPARTMENT OF ENERGY

Federal Energy Regulatory Commission

[Project No. 2530-057]

Brookfield White Pine Hydro LLC; Notice of Application Tendered for Filing With the Commission and Establishing Procedural Schedule for Licensing and Deadline for Submission of Final Amendments

Take notice that the following hydroelectric application has been filed with the Commission and is available for public inspection.

a. Type of Application: New Major License.

b. Project No.: 2530-057.

c. Date Filed: November 20, 2020.

d. Applicant: Brookfield White Pine Hydro LLC (White Pine Hydro).

e. Name of Project: Hiram Hydroelectric Project.

f. Location: The existing project is located on the Saco River in the towns of Hiram, Baldwin, Brownfield, and Denmark within Oxford and Cumberland Counties, Maine. The project does not affect federal lands.

g. Filed Pursuant to: Federal Power Act, 16 U.S.C. 791 (a)-825(r).

h. Applicant Contact: Luke Anderson, Licensing Manager, Brookfield White Pine Hydro LLC, 150 Main Street, Lewiston, ME 04240; Telephone (207) 755-5600.

i. FERC Contact: Dianne Rodman, (202) 502-6077 or dianne.rodman@ferc.gov.

j. This application is not ready for environmental analysis at this time.

k. Project Description: The existing Hiram Project consists of a 255-acre, 7.5-mile-long impoundment at normal full pond elevation 349.0 feet; a 448-foot-long dam located at the top of Great Falls fitted with an inflatable dam across the spillway crest; an intake that is integral to the dam; a 320-foot-long, 15.5-foot-diameter penstock that bifurcates to one 170-foot-long by 10-foot-wide penstock (to Unit 1), and one 80-foot-long by 15.5-foot-diameter penstock (to Unit 2); a powerhouse containing two turbine-generator units, Unit 1 rated at 2.4 megawatts (MW) and Unit 2 at 8.1 MW, for a total installed capacity of 10.5 MW; and appurtenant facilities. The project's transmission facilities include: (1) Generator leads; (2) a substation located adjacent to, and north of, the powerhouse; and (3) a transmission circuit connecting the substation to a non-project switching station. The project generates an annual average of 45,142 megawatt-hours.

White Pine Hydro proposes to continue to: operate the project in a run-of-river mode from October 1 through November 15, with head pond drawdowns limited to 1 foot or less from the full pond elevation, or from the spillway crest when the inflatable dam is down. From November 16 through September 30, White Pine Hydro proposes to continue to cycle daily operations whereby it would turn on and off its generating units when inflow is sufficient to meet load demands, resulting in drawdown of the head pond by up to 2 feet from the full pond elevation during normal project operation, or from the spillway crest when the inflatable dam is down. During this period, White Pine Hydro would continue to provide a minimum flow of 300 cubic feet per second (cfs), of inflow, whichever is less below the powerhouse.

White Pine Hydro proposes to remove from the current project boundary 152 acres of land and 25 acres of water.

l. In addition to publishing the full text of this notice in the Federal Register, the Commission provides all interested persons an opportunity to view and/or print the contents of this notice, as well as other documents in the proceeding (e.g., license application) via the internet through the Commission's Home Page (http://www.ferc.gov) using the eLibrary link. Enter the docket number excluding the last three digits in the docket number field to access the document (P-2530). At this time, the Commission has suspended access to the Commission's Public Reference Room due to the proclamation declaring a National Emergency concerning the Novel Coronavirus Disease (COVID-19) issued by the President on March 13, 2020. For assistance, contact FERC at FERCOnlineSupport@ferc.gov or call toll-free, (866) 208-3676 or (202) 502-8659 (TTY).

m. You may also register online at https://ferconline.ferc.gov/FERCOnline.aspx to be notified via email of new filings and issuances related to this or other pending projects. For assistance, contact FERC Online Support.

n. Procedural Schedule:

The application will be processed according to the following preliminary Hydro Licensing Schedule. Revisions to the schedule may be made as appropriate.

Milestone | Target Date
Notice of Acceptance/Notice of Ready for Environmental Analysis | January 2021.
Filing of recommendations, preliminary terms and conditions, and fishway prescriptions | March 2021.
Reply Comments due | May 2021.

o. Final amendments to the application must be filed with the Commission no later than 30 days from the issuance date of the notice of ready for environmental analysis.

Dated: November 30, 2020.
Kimberly D. Bose,
Secretary.

[FR Doc. 2020-26712 Filed 12-3-20; 8:45 am]

BILLING CODE 6717-01-P